DEPARTMENT OF AGRICULTURE

Animal and Plant Health Inspection Service

[Docket No. APHIS-2018-0013]

Low Pathogenicity Avian Influenza Program; Public Meeting

AGENCY: Animal and Plant Health Inspection Service, USDA.

ACTION: Notice of public meeting.

SUMMARY: We are notifying stakeholders and interested persons that the Animal and Plant Health Inspection Service is hosting a public meeting to provide information on the Agency's current thinking regarding low pathogenicity avian influenza (LPAI) indemnity, compensation, and controlled marketing. The meeting will include an overview of the concepts we are developing with respect to LPAI indemnity, compensation, and controlled marketing and provide an opportunity for attendees to discuss issues of interest.

DATES: The meeting will be held on March 27, 2018, from 8 a.m. to 4:30 p.m.

ADDRESSES: The public meeting will be held at the Atlanta Airport Marriott, 4711 Best Road, Atlanta, GA 30337.

FOR FURTHER INFORMATION CONTACT: Dr. Fidelis Hegngi, Avian Health Surveillance Staff, Preparedness, and Response Services, VS, APHIS, 4700 River Road, Unit 46, Suite 4B-02.27, Riverdale, MD 20737; (301) 851-3564.

SUPPLEMENTARY INFORMATION: The low pathogenicity avian influenza (LPAI) virus typically causes little to no clinical signs in infected poultry. It spreads primarily through direct contact between healthy and infected birds or through indirect contact with contaminated equipment and materials. To prevent cases of LPAI, poultry producers must use special preventative measures and precautions on the farm. When LPAI findings do occur, the Animal and Plant Health Inspection Service (APHIS) and its State partners work to address them quickly and keep the disease from spreading to new flocks. Because LPAI does not typically kill poultry the way highly pathogenic avian influenza does, there may be additional control options beyond depopulation.

In order to provide a forum for the discussion of policy issues related to LPAI, APHIS is organizing a public meeting to provide information on our current thinking with respect to LPAI indemnity, compensation, and controlled marketing with poultry stakeholders and partners. This meeting will be held on March 27, 2018, and will begin at 8 a.m., and is scheduled to end at 4:30 p.m. Information regarding the meeting and registration instructions may be obtained from the person listed under FOR FURTHER INFORMATION CONTACT.

The meeting will open with remarks by Dr. Jack Shere, Deputy Administrator for APHIS' Veterinary Services. An overview of APHIS' current thinking on LPAI indemnity, compensation, and controlled marketing process will follow. APHIS will share the concepts we are developing on the process and take questions in a feedback session, where attendees can seek clarification about specific issues and state their opinions. The meeting will then break for lunch. After lunch, attendees will discuss the challenges of an LPAI incident or outbreak in the Table Egg and Upland Game Bird industries and offer possible solutions. The entire group will then reconvene to receive the highlights of each session, and the meeting will end after a discussion of next steps and closing remarks.

If you require special accommodations, such as a sign language interpreter, please call or write the individual under FOR FURTHER INFORMATION CONTACT.

Done in Washington, DC, this 12th day of March 2018.
Kevin Shea,
Administrator, Animal and Plant Health Inspection Service.

[FR Doc. 2018-05270 Filed 3-14-18; 8:45 am]

BILLING CODE 3410-34-P